DEPARTMENT OF THE INTERIOR

Fish and Wildlife Service

South Bay Salt Pond Restoration Project, San Francisco Bay, CA

AGENCY: Fish and Wildlife Service, Interior.

ACTION: Notice of availability: final environmental impact statement/environmental impact report.

SUMMARY: We, the U.S. Fish and Wildlife Service (Service), and the California Department of Fish and Game (CDFG) announce that the final environmental impact statement/environmental impact report (EIS/EIR) for the South Bay Salt Pond (SBSP) Restoration Project is available for distribution. The final EIS/EIR, which we prepared in accordance with the National Environmental Policy Act of 1969 (NEPA), describes the restoration plan (plan) for 15,100 acres (ac) (6,111 hectares (ha)) of former commercial salt ponds in south San Francisco Bay. The SBSP Restoration Project would use a combination of restored tidal marsh, managed ponds, flood control measures and public access features to meet the three goals of the plan: to restore wildlife habitat, to provide flood protection, and to provide wildlife-oriented public access. The ponds are located at the Don Edwards San Francisco Bay National Wildlife Refuge and at the Eden Landing State Ecological Reserve.

The FEIS/EIR includes program-level evaluation of the SBSP long-term alternatives as well as project-level analysis of the first phase of restoration (the Phase 1 actions).

We and the CDFG jointly have prepared the final EIS/EIR to analyze the impacts of the SBSP. The final EIS/EIR presents a limited evaluation of the potential impacts associated with the list of possible South San Francisco Bay Shoreline Study (Shoreline Study) actions. In the draft EIS/EIR, the U.S. Army Corps of Engineers (Corps) was identified as the co-lead agency for NEPA compliance. However, this caused confusion as to the exact nature of the relationship of the Shoreline Study to the EIS/EIR for the SPSP Restoration Project. To eliminate this confusion, the Corps is no longer a co-lead agency on the SBSP Restoration project EIS/EIR. The Corps will remain a cooperating agency because they will use the final EIS/EIR to issue Clean Water Act 404 permits for the SBSP Restoration Project. The Corps will separately complete the Shoreline Study. The Shoreline Study area includes the SBSP Restoration Project area as well as shoreline and floodplain areas in the counties of Alameda, San Mateo, and Santa Clara.

ADDRESSES: You may obtain a copy of the Final EIS/EIR for the SBSP Restoration Project by writing to Mendel Stewart, Project Leader, San Francisco Bay National Wildlife Refuge, 9500 Thornton Avenue, Newark, CA 94560, or you may request one through the South Bay Salt Pond Restoration Project Web site, at http://www.southbayrestoration.org.

FOR FURTHER INFORMATION CONTACT: Mendel Stewart, Project Leader, San Francisco Bay National Wildlife Refuge Complex, at the above address; telephone (510) 792-4275, or John Krause, California Department of Fish and Game, Region 3 Headquarters, P.O. Box 47, Yountville, CA 94599; telephone (707) 944-5500.

SUPPLEMENTARY INFORMATION:

Background

On March 16, 2003, the State of California and the Service acquired 15,100 ac of commercial salt ponds from Cargill, in South San Francisco Bay. The purpose of the acquisition was to protect, restore and enhance the property for fish and wildlife, as well as to provide opportunities for wildlife-oriented recreation and education. Of the acquired lands, CDFG owns and manages the 5,500-ac Eden Landing pond complex and we own the 8,000-ac Alviso pond complex and the 1,600-ac Ravenswood pond complex.

We planned the SBSP Restoration Project in close coordination with a related but separate project, the Shoreline Study. The Congressionally authorized Shoreline Study, which the Corps will conduct, will identify and recommend for Federal funding one or more projects for flood damage reduction, ecosystem restoration, and related purposes, such as public access. Planning for the Shoreline Study will be conducted through several stages referred to as Interim Feasibility Studies, and the Corps is currently developing alternatives for the first stage of the Shoreline Study (the Alviso Ponds and Santa Clara County Interim Feasibility Study) in partnership with the Study's non-Federal sponsors, the Santa Clara Valley Water District and the California Coastal Conservancy, and in cooperation with the Service. Potential Shoreline Study actions include flood protection improvements, ecosystem restoration, and recreation and public access features, which may overlap considerably with proposed SBSP Restoration Project actions.

The Initial Stewardship Plan (ISP) is an interim plan now in operation to maintain and enhance the biological and physical conditions within the SBSP area in the interim period between the cessation of salt production and the implementation of the long-term restoration plan that will emerge from the SBSP Restoration Project planning process. Because the SBSP Restoration Project will be implemented in phases over time, some ponds may be managed under the ISP for many years. The ISP actions include construction and operation of water control structures to circulate bay waters through a series of pond clusters to maintain low salinity, provide wildlife habitat, and maintain at least the current level of flood protection. Three of the ponds' levees were breached to allow full tidal wetland restoration. Additionally, some ponds are managed as seasonal wetlands that are allowed to fill with rain water in the winter and dry through evaporation during the summer months, while other ponds are operated as high salinity ponds to provide habitat for wildlife requiring those conditions. Certain ponds are still being managed by Cargill, while the company reduces the salinity levels by moving the saltiest brines to its plant site in Newark, California.

The actual long-term restoration of the salt ponds is the subject of the SBSP Restoration Project. Implementation of the long-term restoration plan is expected to be conducted in phases, with some phases extending beyond 20 years. The Final EIS/EIR is programmatic, covering the long-term plan for the entire SBSP planning area, and is project-specific for the Phase 1 projects that will be implemented in the near term.

The Draft EIS/EIR was available for a 55-day public review and comment period, which we announced via several methods, including press releases and public notices, including in the Federal Register (69 FR 64965, November 9, 2004). The Draft EIS/EIR identified and evaluated three programmatic alternatives for the SBSP Restoration Project: A No Action Alternative (Alternative A), a Managed Pond Emphasis Alternative (Alternative B), and a Tidal Emphasis Alternative (Alternative C).

Under the No Action alternative (Alternative A), the expected scenario at Year 50 is evaluated as if no long-term restoration plan is implemented. CDFG and the Service would continue to operate and maintain the ponds in a manner similar to the ISP, although it is assumed that CDFG and the Service would not have the funding to maintain full ISP operations over the 50-year planning horizon. No new public access or recreational facilities are proposed under this alternative.

Under the Managed Pond Emphasis Alternative (50 percent tidal habitat: 50 percent managed ponds by area) (Alternative B), the expected scenario at Year 50 would contain approximately 7,500 ac of tidal habitat and 7,500 ac of managed pond habitat. Approximately 20 percent of the managed ponds would be reconfigured to improve foraging, roosting, and nesting opportunities for shorebirds, waterfowl, and other waterbirds. In addition, Alternative B would provide a cohesive line of flood protection along the perimeter of the project area. This alternative would also provide public access and recreation features in the form of trails and viewing platforms, interpretive stations, waterfowl hunting, access to and interpretation of cultural resource features, opportunities for education and interpretation, non-motorized boat launching points, and associated staging and parking areas.

Under the Tidal Emphasis Alternative (90 percent tidal habitat: 10 percent managed ponds by area), the expected scenario at Year 50 would contain approximately 13,400 ac of tidal habitat and 1,600 ac of managed pond habitat. All managed ponds in Alternative C would be reconfigured to substantially enhance foraging, roosting, and nesting opportunities for shorebirds, waterfowl, and other waterbirds. Flood protection under Alternative C would be similar to Alternative B, with the exception that more of the existing slough levees would be abandoned in Alternative C. Alternative C would also provide public access and recreation features similar to those described for Alternative B. Alternative C is the preferred alternative.

Alternatives B and C are “bookends” that represent possible outcomes ranging from a 50:50 tidal to managed pond scenario to a 90:10 tidal to managed pond scenario. The optimal configuration of tidal habitat and managed ponds that achieves the SBSP objectives while avoiding significant impacts to environmental resources would fall somewhere between these bookends and would be guided by the Adaptive Management Plan, the cornerstone of the SBSP.

The Draft EIS/EIR also addressed, at the project level, Phase 1 of the SBSP. The Phase 1 actions are common elements of the long-term Alternatives B and C. Phase 1 actions would include a range of habitat types and early experiments that will be used to inform the Adaptive Management Plan. These include creating tidal, muted tidal, and managed pond habitats, as well as a variety of public-access features.

We incorporated comments we received during the review period on the draft EIS/EIR into our final EIS/EIR, as appropriate. Appendix O of the final EIS/EIR contains a list of the comments we received and our responses to comments.

We will make a decision no sooner than 30 days after the publication of the final EIS/EIR. It is anticipated that a Record of Decision will be issued by the Service in the spring of 2008.

We provide this notice under regulations for implementing NEPA (40 CFR 1506.6).

Dated: December 11, 2007.
Ken McDermond,
Deputy Regional Director, Region 8.

[FR Doc. E7-24640 Filed 12-18-07; 8:45 am]

BILLING CODE 4310-55-P